DEPARTMENT OF THE INTERIOR

Fish and Wildlife Service

[FWS-R1-R-2010-N160; 1265-0000-10137-S3]

Pearl Harbor National Wildlife Refuge, Honolulu County, HI; Comprehensive Conservation Plan and Environmental Assessment

AGENCY: Fish and Wildlife Service, Interior.

ACTION: Notice of availability; request for comments.

SUMMARY: We, the U.S. Fish and Wildlife Service (Service), announce the availability of our draft comprehensive conservation plan and environmental assessment (Draft CCP/EA) for the Pearl Harbor National Wildlife Refuge (refuge) for public review and comment. The Draft CCP/EA describes our proposal for managing the refuge for the next 15 years.

DATES: To ensure consideration, we must receive your written comments by September 28, 2010.

ADDRESSES: Address comments, questions, and requests for further information to David Ellis, Project Leader, O`ahu National Wildlife Refuge Complex, 66-590 Kamehameha Highway, Room 2C, Hale`iwa, HI 96712. Alternatively, you may fax comments to the refuge at (808) 637-3578, or e-mail them to FW1PlanningComments@fws.gov (include “Pearl Harbor Refuge CCP” in the subject line of the message). Additional information concerning the refuge is available on the Internet at http://www.fws.gov/pearlharbor/. You may request the CCP/EA for review by any of the above contact methods, or you may view or download it at http://www.fws.gov/pacific/planning.

FOR FURTHER INFORMATION CONTACT: David Ellis, Project Leader, (808) 637-6330.

SUPPLEMENTARY INFORMATION:

Introduction

With this notice, we continue the CCP process for the Pearl Harbor National Wildlife Refuge. We started this process by publishing a notice of intent in the Federal Register on December 1, 2008 (73 FR 72826).

Pearl Harbor Refuge is located on the southern coast of the island of O`ahu and is comprised of three units: Honouliuli, Waiawa, and Kalaeloa. The Honouliuli Unit and Waiawa Unit are wetland units located on the shores of Pearl Harbor. The 37-acre Honouliuli Unit and the 25-acre Waiawa Unit were established in 1972 to protect and enhance habitat for endangered Hawaiian waterbirds. Habitats found on these units include open water, freshwater marsh, mudflat, grassland, and shrubland. The units provide important breeding, feeding, and resting areas for endangered waterbirds, a variety of migratory waterfowl, shorebirds, and other wetland birds. Common migrants include Northern pintail and Pacific golden plover. Neither unit is open to the general public; however, a grade school wetland education program is administered under a special use permit at the Honouliuli Unit.

The 38-acre Kalaeloa Unit is a coastal upland unit on O`ahu's southwestern point, and was once part of the Naval Air Station Barbers Point (NAS). When the NAS closed in 2001, the unit was established to protect and enhance habitat for the endangered `Ewa hinahina plant. The unit contains the largest remnant stand of `Ewa hinahina and a reintroduced population of `akoko, another endangered plant. We supplement these plant populations with nursery plantings and exotic plant control. The unit is located within the arid `Ewa Plains, and encompasses exposed coral shelf, rocky shoreline, and sparse vegetation. The unit includes a unique microhabitat called anchialine pools. These salt water pools are in the raised limestone coral reef, and are connected to the ocean via tiny subterranean cracks and crevices within the coralline substrate. The anchialine pools support unique insects, plants, and animals, including two imperiled species of native shrimp. The refuge's volunteer program administers college-level educational programs and habitat restoration activities on the unit. The unit is closed to the general public.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

We began the public scoping phase of the CCP planning process by publishing a Notice of Intent (NOI) in the Federal Register on December 1, 2008 (73 FR 72826), announcing our intention to complete a CCP/EA for the James Campbell and Pearl Harbor National Wildlife Refuges. Simultaneously, we released Planning Update 1. We invited the public to two open house meetings and requested public comments in the NOI and in Planning Update 1. We held the public open house meetings, in Pearl City, Hawai`i, on December 9, 2008, and in Kahuku, Hawai`i, on January 8, 2009. In Planning Update 2, distributed in June 2009, we provided a summary of the comments we received and described refuge resources. We considered all of the public comments we received to date during development of the Draft CCP/EA. We will announce the public comment period for the James Campbell National Wildlife Refuge Draft CCP/EA in fall 2010.

Draft CCP Alternatives We Are Considering

We drafted two alternatives for managing the Pearl Harbor Refuge. Under both alternatives entry into the fenced portions of the refuge units will continue by special use permit. The Betty Bliss Memorial Overlook will be constructed outside the Honouliuli Unit's fence, to provide year-round interpretation, wildlife viewing, and photography opportunities. The coastal foot trail outside the Kalaeloa Unit's fence will remain open to the public for shoreline fishing. Both alternatives would protect threatened and endangered species and cultural resources. Brief descriptions of the alternatives follow.

Alternative A

Under Alternative A, we would continue the current level of management. On the wetlands of the Honouliuli and Waiawa Units, we would continue to control predators and manage and protect habitat for endangered Hawaiian waterbirds, as part of the Statewide effort to implement the Hawaiian Waterbird Recovery Plan. Under Alternative A, control of invasive plant species would be modest, and intensive predator control would continue. On the Kalaeloa Unit, we would continue to restore and manage endangered plants and control invasive plants at the current level. Protection would continue for 14 existing anchialine pools on the Kalaeloa Unit, but no additional pools would be restored. We would continue to cooperate with the Bishop Museum's effort to catalog avian and other fossil remains from the pools.

Alternative B

Under Alternative B, our preferred alternative, we would focus management efforts at the Kalaeloa Unit on increasing the restoration of native and rare coralline plain habitat. We would increase the existing 25-acre restoration area to 37 acres. Controlling and reducing invasive plants, and establishing native plants, including the `akoko and `Ewa hinahina, would be emphasized. We would develop a foot trail system, protect 14 existing anchialine pools, identify up to 30 additional pool sites for potential restoration, and continue with experimental translocation of endangered damselflies (pinapinao) to suitable habitat in the anchialine pools. We would also expand volunteer, research, and environmental education opportunities, including working with the Bishop Museum and the Smithsonian Institute to pursue an in-depth paleontological study of the entire unit.

On the Honouliuli and Waiawa Units, our focus would be on an increased level of wetland management to improve the units' overall capacity to support endangered waterbirds. Under this Alternative B, water level and vegetation management, invasive species control, including predator control, would be improved or increased as part of the Statewide effort to implement the Hawaiian Waterbird Recovery Plan. On the Honouliuli Unit, we would remove mangrove on 5 acres to improve and maintain intertidal mudflat habitat, and determine the feasibility of installing a predator-proof fence. On the Waiawa Unit, we would work with partners and neighbors to determine the feasibility of developing an additional refuge overlook.

Public Availability of Documents

We encourage you to stay involved in the CCP planning process by reviewing and commenting on the proposals we have developed in the Draft CCP/EA. Copies of the Draft CCP/EA are available by request from David Ellis or via the Internet (see ADDRESSES).

Next Steps

After this comment period ends, we will analyze the comments and address them in the final CCP/EA.

Public Availability of Comments

Before including your address, telephone number, e-mail address, or other personal identifying information in your comment, you should be aware that your entire comment—including your personal identifying information—may be made publicly available at any time. While you can ask us in your comment to withhold your personal identifying information from public review, we cannot guarantee that we will be able to do so.

Dated: September 10, 2010.
David Patte,
Acting Regional Director, Region 1, Portland, Oregon.

[FR Doc. 2010-23102 Filed 9-14-10; 8:45 am]

BILLING CODE 4310-55-P